DEPARTMENT OF HOUSING AND URBAN DEVELOPMENT

[Docket No. FR-5076-D-03]

Order of Succession for the Office of the Assistant Secretary for Public and Indian Housing

AGENCY: Office of the Assistant Secretary for Public and Indian Housing, HUD.

ACTION: Notice of order of succession.

SUMMARY: In this notice, the Assistant Secretary for Public and Indian Housing designates the Order of Succession for the Office of Public and Indian Housing. This Order of Succession supersedes the Order of Succession for the Assistant Secretary for Public and Indian Housing published on November 6, 2000, at 65 FR 66551.

Effective Date: June 15, 2006.

FOR FURTHER INFORMATION CONTACT: Katherine C. Anderson, Office of Policy, Program and Legislative Initiatives, Office of Public and Indian Housing, Department of Housing and Urban Development, 451 Seventh Street, SW., Room 4116, Washington, DC 20410-5000, telephone (202) 708-0713. (This is not a toll-free number.) This number may be accessed through TTY by calling the toll-free Federal Information Relay Service number at 1-(800) 877-8339.

SUPPLEMENTARY INFORMATION: The Assistant Secretary for Public and Indian Housing is issuing this Order of Succession of officials authorized to perform the functions and duties of the Office of the Assistant Secretary for Public and Indian Housing when, by reason of absence, disability, or vacancy in office, the Assistant Secretary is not available to exercise the powers or perform the duties of the office. This Order of Succession is subject to the provisions of the Federal Vacancies Reform Act of 1998, 5 U.S.C. 3345-3349d. This publication supersedes the Order of Succession notice of November 6, 2000 (65 FR 66551).

Accordingly, the Assistant Secretary for Public and Indian Housing designates the following Order of Succession:

Section A. Order of Succession

Subject to the provisions of the Federal Vacancies Reform Act of 1998, during any period when, by reason of absence, disability, or vacancy in office, the Assistant Secretary for Public and Indian Housing is not available to exercise the powers or perform the duties of the Office of the Assistant Secretary for Public and Indian Housing, the following officials within the Office of Public and Indian Housing are hereby designated to exercise the powers and perform the duties of the Assistant Secretary for Public and Indian Housing:

(1) General Deputy Assistant Secretary for Public and Indian Housing;

(2) Deputy Assistant Secretary for Public Housing and Voucher Programs;

(3) Deputy Assistant Secretary for Field Operations;

(4) Deputy Assistant Secretary for Public Housing Investments.

These officials shall perform the functions and duties of the office in the order specified herein, and no official shall serve unless all the other officials, whose position titles precede his/hers in this order, are unable to act by reason of absence, disability, or vacancy in office.

Section B. Authority Superseded

This Order of Succession supersedes the Order of Succession for the Assistant Secretary for Public and Indian Housing published on November 6, 2000 (65 FR 66551).

Authority: Section 7(d), Department of Housing and Urban Development Act, 42 U.S.C. 3535(d).

Dated: June 15, 2006.
Orlando J. Cabrera,
Assistant Secretary for Public and Indian Housing.

[FR Doc. E6-17054 Filed 10-17-06; 8:45 am]

BILLING CODE 4210-67-P